DEPARTMENT OF ENERGY

Federal Energy Regulatory Commission

Combined Notice of Filings #1

Take notice that the Commission received the following electric rate filings:

Docket Numbers: ER18-2397-003.

Applicants: Midcontinent Independent System Operator, Inc.

Description: Compliance filing: 2019-07-22_Order 844 Compliance filing to be effective 1/1/2019.

Filed Date: 7/22/19.

Accession Number: 20190722-5056.

Comments Due: 5 p.m. ET 8/12/19.

Docket Numbers: ER19-2243-001.

Applicants: Southwest Power Pool, Inc.

Description: Tariff Amendment: 1636R23 Kansas Electric Power Cooperative, Inc. NITSA and NOA Amended Filing to be effective 9/1/2019.

Filed Date: 7/22/19.

Accession Number: 20190722-5072.

Comments Due: 5 p.m. ET 8/12/19.

Docket Numbers: ER19-2430-000.

Applicants: Exelon Generation Company, LLC.

Description: Initial rate filing: Certificate of Concurrence (Nine Mile Point) to be effective 7/20/2019.

Filed Date: 7/19/19.

Accession Number: 20190719-5114.

Comments Due: 5 p.m. ET 8/9/19.

Docket Numbers: ER19-2431-000.

Applicants: PJM Interconnection, L.L.C.

Description: § 205(d) Rate Filing: Original ISA, SA No. 5246 and ICSA, SA No. 5247; Queue No. Z2-107 to be effective 6/21/2019.

Filed Date: 7/22/19.

Accession Number: 20190722-5036.

Comments Due: 5 p.m. ET 8/12/19.

Docket Numbers: ER19-2432-000.

Applicants: West Penn Power Company, PJM Interconnection, L.L.C.

Description: § 205(d) Rate Filing: West Penn Power submits an ECSA, Service Agreement No. 5268 to be effective9/20/2019.

Filed Date: 7/22/19.

Accession Number: 20190722-5058.

Comments Due: 5 p.m. ET 8/12/19.

Docket Numbers: ER19-2433-000.

Applicants: Southern California Edison Company.

Description: Tariff Cancellation: Cancel LGIA Palmdale LLC SA No. 210 to be effective 9/19/2019.

Filed Date: 7/22/19.

Accession Number: 20190722-5063.

Comments Due: 5 p.m. ET 8/12/19.

Docket Numbers: ER19-2434-000.

Applicants: Citizens Imperial Solar LLC.

Description: Baseline eTariff Filing: Application and Baseline MBR Tariff to be effective 7/23/2019.

Filed Date: 7/22/19.

Accession Number: 20190722-5073.

Comments Due: 5 p.m. ET 8/12/19.

Docket Numbers: ER19-2435-000.

Applicants: Midcontinent Independent System Operator, Inc.

Description: § 205(d) Rate Filing: 2019-07-22_SA 3051 IPL-MEC 1st Rev GIA (J438) to be effective 7/8/2019.

Filed Date: 7/22/19.

Accession Number: 20190722-5101.

Comments Due: 5 p.m. ET 8/12/19.

Docket Numbers: ER19-2436-000.

Applicants: Golden West Power Partners, LLC.

Description: Baseline eTariff Filing: Golden West Power Partners, LLC Shared Facilities Agreement to be effective 9/21/2019.

Filed Date: 7/22/19.

Accession Number: 20190722-5106.

Comments Due: 5 p.m. ET 8/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 22, 2019.
Nathaniel J. Davis, Sr.,
Deputy Secretary.

[FR Doc. 2019-16109 Filed 7-29-19; 8:45 am]

BILLING CODE 6717-01-P